DEPARTMENT OF ENERGY

Federal Energy Regulatory Commission

[Docket No. EC02-59-000, et al.]

Virginia Electric and Power Company, et al.; Electric Rate and Corporate Regulation Filings

April 2, 2002.

Take notice that the following filings have been made with the Commission. Any comments should be submitted in accordance with Standard Paragraph E at the end of this notice.

1. Virginia Electric And Power Company and Dominion Energy Marketing, Inc.

[Docket No. EC02-59-000]

Take notice that on March 29, 2002, Virginia Electric and Power Company (Dominion Virginia Power and Dominion Energy Marketing, Inc. (Dominion Marketing), (collectively, the Applicants) submitted a joint application under Section 203 of Federal Power Act to request authorization and approval for Dominion Virginia Power to transfer by assignment to Dominion Marketing obligation and rights in a Power Sales Agreement with the Borough of Tarentum.

The Applicants state that copies of this joint application have been served upon the Borough of Tarentum and the state regulatory commissions of Pennsylvania and Virginia.

Comment Date: April 19, 2002.

2. HC Pacific, LLC

[Docket No. EG02-109-000]

Take notice that on March 21, 2002, HC Pacific, LLC, a Delaware limited liability company, with its principal office located at 1221 Avenue of the Americas, New York, NY 10020, filed with the Federal Energy Regulatory Commission (Commission) an Application for determination that it is an exempt wholesale generator pursuant to Part 365 of the Commission's regulations and Section 32 of the Public Utility Holding Company Act of 1935, as amended.

Applicant states it is a Delaware limited liability company that will be engaged in owning an approximately 63 MW net naphtha and distillate oil-fired power plant located in Honakaa, in the northern coastal region of the island of Hawaii.

Comment Date: April 23, 2002.

3. Trition Power Michigan LLC

[Docket No. EG02-110-000]

Take notice that on March 29, 2002, Trition Power Michigan LLC (TP Michigan), a Delaware special purpose limited liability company, with its principal place of business at c/o Jackson Power Facility, 2219 Chapin Street, Jackson, Michigan 49203, filed with the Federal Energy Regulatory Commission (Commission) an application for determination of exempt wholesale generator status pursuant to Part 365 of the Commission's regulations.

TP Michigan states that it will be engaged directly and exclusively in the business of owning or operating, or both owning and operating, a 535 MW gas-fired combined cycle power generation facility located in Jackson, Michigan (Facility). Under a capacity sales and tolling agreement with Williams Energy Marketing & Trading Company, TP Michigan will sell the capacity exclusively at wholesale.

A copy of the filing was served upon the Securities and Exchange Commission, the Michigan Public Service Commission.

Comment Date: April 23, 2002.

4. Pacific Gas and Electric Company

[Docket No.ER02-1399-000]

Take notice that on March 28, 2002, Pacific Gas and Electric Company (PG&E) tendered for filing a Service Agreement for Wholesale Distribution Tariff (WDT Service Agreement) and a Generator Interconnection Agreement (GIA) between Georgia-Pacific West, Inc., (Georgia-Pacific)(collectively, Parties) a wholly owned subsidiary of Georgia-Pacific Corporation, and Pacific Gas and Electric Company, submitted pursuant to the PG&E Wholesale Distribution Tariff (WDT).

Copies of this filing have been served upon Georgia-Pacific, the California Independent System Operator Corporation and the CPUC.

Comment Date: April 18, 2002.

5. Illinois Power Company

[Docket No. ER02-1400-000]

Take notice that on March 28, 2002, Illinois Power Company (Illinois Power) filed with the Federal Energy Regulatory Commission (Commission) an unexecuted Interconnection and Operating Agreement with Prairie State Generating Company, LLC (Prairie State). The Agreement is subject to Illinois Power's Open Access Transmission Tariff.

Illinois Power requests an effective date of March 8, 2002 for the unexecuted Agreement and seeks a waiver of the Commission's notice requirement. Illinois Power has served a copy of the filing on Prairie State.

Comment Date: April 18, 2002.

6. Allegheny Power

[Docket No. ER02-1401-000]

Take notice that on March 28, 2002, West Penn Power Company, Monongahela Power Company and The Potomac Edison Company, all doing business as Allegheny Power filed a series of Transition Services Agreements with its wholesale customers. Allegheny Power recites that the Transition Services Agreements are needed to implement the PJM West arrangements and divide responsibility for the PJM bill between the customers and Allegheny Power.

Comment Date: April 18, 2002.

7. Nevada Power Company

[Docket No. ER02-1402-000]

Take notice that on March 28, 2002, Nevada Power Company tendered for filing an executed Interconnection and Operation Agreement between Nevada Power Company and Reliant Energy Bighorn, LLC. Nevada Power Company requests that this agreement be made effective as of March 6, 2002, which is the execution date for the Interconnection Agreement.

A copy of this filing, including the attached Interconnection Agreement, has been served upon Reliant Energy Bighorn, LLC, the Public Utilities Commission of Nevada, and the Nevada Bureau of Consumer Protection.

Comment Date: April 18, 2002.

8. PJM Interconnection, L.L.C.

[Docket No. RT01-98-005]

Take notice that on March 28, 2002, PJM Interconnection, L.L.C. (PJM) tendered for filing with the Federal Energy Regulatory Commission (Commission) conforming changes and minor revisions to the PJM Open Access Transmission Tariff (Tariff) and the Amended and Restated Operating Agreement of PJM Interconnection, L.L.C. (Operating Agreement) to fully reflect all previous changes to the current version of the Tariff and Operating Agreement in the versions of the Tariff and Operating Agreement that encompass both PJM and PJM West, which will take effect on April 1, 2002. PJM states that, except for certain conforming changes, typographical errors, and other minor changes, all of the submitted changes previously have been filed with the Commission, and have either been approved or are awaiting Commission action.

Allegheny Power System (Allegheny) joins in the filing, as to the Tariff sheets that contain Allegheny's rates, and asks that the Commission make such rates effective April 1, 2002, subject to refund.

Copies of this filing have been served on all PJM Members and the state electric regulatory commissions in the PJM control area and Allegheny service area.

Comment Date: April 29, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-8751 Filed 4-10-02; 8:45 am]

BILLING CODE 6717-01-P